DEPARTMENT OF THE INTERIOR

Bureau of Land Management

[WY-100-1110-PI]

Notice of Seasonal Closure of Public Lands to Motorized Vehicle Use

AGENCY: Bureau of Land Management, Interior.

ACTION: Notice of seasonal closure of certain public lands located in Sublette County, Wyoming to all types of motor vehicle use and/or human presence.

SUMMARY: Pursuant to 43 Code of Federal Regulations subpart 8364, the Bureau of Land Management (BLM) may issue an order to close the use of BLM administered lands to the public to protect those lands and resources. The Pinedale Resource Management Plan (RMP) Record of Decision (ROD), December 12, 1988, states that big game winter ranges, and elk feedgrounds may be closed to minimize stress to wintering animals. The Pinedale Anticline Project (PAPA) ROD (2000) identifies areas that may be subject to seasonal closures as conditions warrant.

After consulting with the Wyoming Game and Fish Department, the BLM Pinedale Field Manager has implemented a seasonal closure on certain BLM-administered lands and travel ways including existing roads and two-track trails, to all types of motorized vehicle travel (e.g., snowmobiles, all-terrain vehicles, any vehicle including trucks, sport utility vehicles and cars, motorcycles etc.). Winter ranges, as identified in the Pinedale RMP, and as described below in the SUPPLEMENTARY INFORMATION section, will be closed to all unauthorized motorized travel from November 15 through April 30 each winter. Use of winter range areas by non-motorized means is still allowed. Feedground areas will be closed November 15 through April 30 each winter, to all motorized vehicles and human presence. The Mesa winter range will remain open to motorized travel on existing roads from November 15 through January 14 each winter, but roads will be closed to unauthorized motorized travel January 15 through April 30 each winter. After April 30 each year, motorized vehicle use will be limited to existing roads and two-track trails.

The winter range seasonal closures affect public lands located within the Deer Hills, Oil Field, Mesa, Bench Corral, and Miller Mountain winter ranges. Elk feedground closures affect public lands around the Franz, Finnegan, Scab Creek, Fall Creek, and North Piney feedgrounds. This action is necessary for the protection of crucial winter range habitat for elk, moose, antelope, and mule deer. Except for travel on highways or county roads, motorized vehicle travel within these areas will be allowed only by written authorization from the Pinedale Field Manager. Personnel of the BLM, Wyoming Game and Fish Department, U.S. Department of Agriculture-APHIS & Forest Service, U.S. Fish & Wildlife Service, and law enforcement personnel are exempt from this closure when performing official duties. Operators of existing oil and gas facilities may perform routine maintenance, or operation and drilling as approved by the BLM, and livestock operators may perform permitted activities.

SUPPLEMENTARY INFORMATION: The BLM Pinedale Field Office is responsible for management of crucial winter range habitat located on public lands within Sublette County. These crucial winter range habitat areas and the management thereof are addressed in the Pinedale RMP ROD, which was signed December 12, 1988 and Pinedale Anticline Project Area (PAPA) ROD signed on July 27, 2000. The RMP identifies areas of crucial winter range and states that seasonal closures for motorized vehicles may be used to protect big game winter range. Closures will vary depending on conditions and will be implemented in coordination with the Wyoming Game and Fish Department (Pinedale RMP, pages 33, 35, and 37). Road closures from the PAPA ROD identify current and future use of roads in the winter and outlines allowable access (Pages 12 and 19). Reasons for the closure include the effects of persistent drought and/or severe winter conditions which threaten the health of these wintering wildlife species. Low forage production associated with persistent drought conditions causes animals to go into winter in poor condition. Losses of wintering habitat from development activity can reduce the area available to the wintering animals. These impacts to wintering wildlife are compounded by significant human activity, such as day and night wildlife observation, still and video photography, snowmobiling, and antler gathering. Because of the increased stress the presence of motorized vehicles inflicts on wintering big game during difficult winter periods, the number of animals that will die and the rate of aborting or reabsorption of fetuses on the winter range can increase. This decreases production of young during the following summer. Therefore, closing crucial winter ranges and feedgrounds to motorized vehicles and human presence (feedgrounds) reduces impacts to wintering big game.

By this order, the following BLM-administered lands are included in this notice of closures:

• The Oil Field winter range complex located approximately 10 miles west of Big Piney containing approximately 116,981 acres.

• The Deer Hills winter range complex located approximately 10 miles west of Big Piney containing approximately 23,552 acres.

• The Mesa winter range complex located approximately 3 miles south of Pinedale containing approximately 83,101 acres.

• The Bench Corral winter range complex and elk winter feedground (T31-32N, R112W) located approximately 18 miles southwest of Pinedale containing approximately 42,230 acres.

• Miller Mountain winter range located approximately 5 miles south and west of LaBarge containing approximately 118,543 acres.

• The Franz elk winter feedground (T36N, R112W) containing 680 acres.

• The Finnegan elk winter feedground (T30N, R114W) containing approximately 1920 acres.

• The Fall Creek elk winter feedground (T33N, R108W) containing approximately 160 acres.

• The Scab Creek elk winter feedground (T33N, R106-107W) containing approximately 2,240 acres.

• The North Piney elk winter feedground (T31N, R114W) containing approximately 1,080 acres.

• The Black Butte elk winter feedground (T36-37N, R114W) containing approximately 320 acres.

Signs will be posted at key locations that provide access into the closure areas. Additional information will be available at the Pinedale Field Office, 432 East Mill Street, Pinedale, Wyoming 82941.

Authority for closure orders is provided in regulation 43 CFR, subparts 8341.2 and 8364.1. Violations of this closure are punishable by a fine not to exceed $1000, and/or imprisonment not to exceed 12 months.

Dates: Every calendar year before the following dates, a press release will be published in the local newspaper as to the areas that will be closed for that year. The seasonal closure for big game winter ranges will be effective from November 15 through April 30 each winter, to all unauthorized motorized vehicle use. The Mesa winter range will remain open to motorized travel on existing roads from November 15 through January 14 each winter, but roads will be closed to unauthorized motorized travel January 15 through April 30 each winter. Elk feedground areas will be closed November 15 through April 30 each winter, to all unauthorized motorized vehicles and human presence. Use of winter range areas by non-motorized means is still allowed. After April 30 each year, motorized vehicle use will be limited to existing roads and two-track trails.

FOR FURTHER INFORMATION CONTACT: Pauline Schuette, Wildlife Biologist or Martin Hudson, Outdoor Recreation Planner, Bureau of Land Management, 432 East Mill Street, Pinedale, Wyoming 82941, or contact by telephone at 307-367-5300.

Dated: October 3, 2006.
Dennis R. Stenger,
Field Manager.

[FR Doc. E7-508 Filed 1-16-07; 8:45 am]

BILLING CODE 4310-22-P